DEPARTMENT OF COMMERCE

National Oceanic and Atmospheric Administration

50 CFR Part 622

[Docket No. 230427-0115]

RTID 0648-XF378

Reef Fish Fishery of the Gulf of America; Partial Holdback of Commercial Quota for the Other Shallow-Water Grouper Complex

AGENCY: National Marine Fisheries Service (NMFS), National Oceanic and Atmospheric Administration (NOAA), Commerce.

ACTION: Temporary rule; commercial quota holdback.

SUMMARY: NMFS issues this temporary rule to withhold a portion of the commercial allocation of the Other Shallow-Water Grouper (SWG) complex for the 2026 fishing year in anticipation of the upcoming rulemaking to implement a framework action under the Fishery Management Plan for the Reef Fish Resources of the Gulf (FMP). If implemented by NMFS, the framework action would, in part, reduce the commercial annual catch limit (ACL) and commercial quota for the Other SWG complex. This temporary rule will withhold the distribution of a portion of the Other SWG individual fishing quota (IFQ) allocation on January 1, 2026, to shareholders in the Groupers and Tilefishes IFQ (GT-IFQ) program in the amount equal to the anticipated reduction in the commercial quota.

DATES: This temporary rule is effective from January 1, 2026, until June 1, 2026.

FOR FURTHER INFORMATION CONTACT: Frank Helies, NMFS Southeast Regional Office, telephone: 727-824-5305, email: frank.helies@noaa.gov.

SUPPLEMENTARY INFORMATION: The reef fish fishery in the Gulf of America (Gulf) includes Other SWG and is managed under the FMP. The FMP was prepared by the Gulf Fishery Management Council (Council), approved by the Secretary of Commerce, and is implemented by NMFS through regulations at 50 CFR part 622 under the authority of the Magnuson-Stevens Fishery Conservation and Management Act (Magnuson-Stevens Act).

All catch limits in this temporary rule are in pounds (lb) gutted weight.

In the Gulf, the Other SWG complex consists of scamp, yellowmouth grouper, black grouper, and yellowfin grouper. Commercial harvest of Other SWG species occurs under the GT-IFQ program and landings are managed to the commercial quota, which is reduced from the commercial ACL. The current commercial ACL is 547,000 lb (248,115 kg) and the commercial annual catch target (ACT, or quota) is 526,000 lb (238,590 kg), which is 4 percent below the commercial ACL. The buffer between the commercial ACL and the commercial quota is in place to account for scientific uncertainty with the level of discards and to allow for the IFQ flexibility measures under which some species in the deep-water grouper complex can be landed under the Other SWG quota.

In 2022, the Southeast Data, Assessment, and Review 68 (SEDAR 68) assessed scamp and yellowmouth grouper together and indicated that harvest must be reduced. The Council's Scientific and Statistical Committee (SSC) accepted SEDAR 68 as consistent with the best scientific information available and recommended updated status determination criteria and catch levels for these two stocks. The remaining Other SWG species, black grouper and yellowfin grouper, could not be assessed due to a lack of the data necessary to accurately assess population metrics of these species in the Gulf.

As a result of the SSC recommendations for scamp and yellowmouth grouper, the Council initiated work on Amendment 58A to the FMP, which considers dissolving the Other SWG complex and creating two new complexes, one for scamp and yellowmouth grouper and another for black grouper and yellowfin grouper, and setting catch limits for these new complexes. Amendment 58A also considers changes to the commercial IFQ program to reflect the two new complexes as well as other management measures. In recognition of the complexity of Amendment 58A and the additional time required for its development and implementation, the Council developed a framework action to reduce harvest of scamp and yellowmouth, consistent with the SSC recommendations, until Amendment 58A can be completed. The Council approved the framework action at its June 2025 meeting. If NMFS determines that the proposed regulations to implement the framework action are consistent with the FMP and other applicable law, NMFS expects to publish a proposed rule in early 2026 and intends for any final rule to be effective by June 1, 2026. The framework action would reduce the total allowable harvest of Other SWG and reduce the commercial ACL from 547,000 lb (248,115 kg) to 255,636 lb (115,955 kg), and the commercial quota from 525,000 lb (238,136 kg) to 245,410 lb (111,316 kg). Commercial landings have never exceeded this proposed commercial quota.

Under the GT-IFQ program, annual quota is distributed to IFQ shareholders as allocation (including multi-use allocation) on January 1, and most IFQ program participants begin to use or transfer their allocation early in each year. After shareholders begin transferring or landing allocation, NMFS is not able to retroactively withdraw allocation from shareholder accounts if a commercial quota decrease becomes effective after the beginning of the fishing year. Regulations at 50 CFR 622.22(a)(4), require NMFS to withhold distribution of IFQ allocation on January 1 in the amount equal to an expected reduction in the commercial quota. Accordingly, through this temporary rule NMFS withholds distribution of the portion of the 2026 commercial quota of Other SWG equal to the anticipated reduction recommended by the Council in the framework action.

NMFS will distribute the available Other SWG allocation of 245,410 lb (111,316 kg), on January 1, 2026. If NMFS does not implement the framework action, including the revised commercial quota, by June 1, 2026, then NMFS will distribute the withheld allocation back to the current shareholders, as determined by the shares held on the same date that NMFS distributes the withheld IFQ quota.

Classification

NMFS issues this action pursuant to section 305(d) of the Magnuson-Stevens Act. This action is taken under 50 CFR 622.22(a)(4), which was issued pursuant to section 304(b) of the Magnuson-Stevens Act, and is exempt from review under Executive Order 12866, and other applicable laws.

Pursuant to 5 U.S.C. 553(b)(B), there is good cause to waive prior notice and an opportunity for public comment on this action, as notice and comment is unnecessary and contrary to the public interest. Such procedures are unnecessary because the regulation at 50 CFR 622.22(a)(4) has already been subject to notice and public comment, and the public is aware of the expected quota reduction included in the framework action. Therefore, all that remains is to notify the public that a portion of the commercial Other SWG allocation in 2026 will be withheld to allow for the implementation of the framework action in 2026 if a final rule is effective before June 1. Such procedures are contrary to the public interest because notice and comment would not allow NMFS to implement the framework action to reduce Other SWG complex catch levels until 2027. If NMFS does not withhold the necessary commercial Other SWG allocation, shareholders can begin transferring or landing allocation on January 1, 2026, and NMFS would not be able to retroactively withdraw allocation from shareholder accounts. Delaying implementation of the framework action until 2027 could allow for harvest of scamp and yellowmouth grouper in excess of the level supported by the most recent stock assessment.

For the aforementioned reasons, the NMFS Assistant Administrator also finds good cause to waive the 30-day delay in the effectiveness of this action under 5 U.S.C. 1801 et seq.

Authority: 16 U.S.C. 1801 et seq.

Dated: December 19, 2025.
Kelly Denit,
Director, Office of Sustainable Fisheries, National Marine Fisheries Service.

[FR Doc. 2025-23755 Filed 12-22-25; 8:45 am]

BILLING CODE 3510-22-P